DEPARTMENT OF TRANSPORTATION

Federal Aviation Administration

14 CFR Part 71

[Docket No. FAA-2003-16503; Airspace Docket No. 03-ACE-87]

Modification of Class E Airspace; Winterset, IA

AGENCY: Federal Aviation Administration (FAA), DOT.

ACTION: Direct final rule; request for comments; correction.

SUMMARY: This action corrects a direct final rule; request for comments that was published in the Federal Register on Wednesday, December 3, 2003, (68 FR 67590) [FR Doc. 03-30013]. It corrects an error in the Winterset-Madison County Airport airport reference point used in the Winterset, IA Class E airspace area legal description.

DATES: This direct final rule is effective on 0901 UTC, April 15, 2004.

FOR FURTHER INFORMATION CONTACT: Kathy Randolph, Air Traffic Division, Airspace Branch, ACE-520C, DOT Regional Headquarters Building, Federal Aviation Administration, 901 Locust, Kansas City, MO 64106; telephone: (816) 329-2525.

SUPPLEMENTARY INFORMATION:

History

Federal Register document 03-30013, published on Wednesday, December 3, 2003, (68 FR 67590) modified Class E airspace at Winterset, IA. The modification enlarged the controlled airspace area around Winterset-Madison County Airport to provide proper protection for diverse departures and to bring the Winterset, IA Class E airspace area legal description into compliance with FAA Order 7400.2E, Procedures for Handling Airspace Matters. However, the Winterset-Madison County Airport airport reference point used in the legal description was published incorrectly.

Accordingly, pursuant to the authority delegated to me, the Winterset, IA Class E airspace, as published in the Federal Register on Wednesday, December 3, 2003, (68 FR 67590) [FR Doc. 03-30013] is corrected as follows:

§ 71.1 [Corrected]

On page 67591, Column 3, paragraph headed “ACE IA E5 Winterset, IA,” second line, change “long.92°01′16” to read “long.94°01′16.”

Issued in Kansas City, MO, on December 4, 2003.
Paul J. Sheridan,
Acting Manager, Air Traffic Division, Central Region.

[FR Doc. 03-30910 Filed 12-12-03; 8:45 am]

BILLING CODE 4910-13-M